OFFICE OF THE UNITED STATES TRADE REPRESENTATIVE

Andean Trade Preference Act (ATPA), as Amended: Notice Regarding the 2003 and 2004 Annual Reviews

AGENCY: Office of the United States Trade Representative.

ACTION: Notice.

SUMMARY: The Office of the United States Trade Representative (USTR) received petitions in September 2004 to review certain practices in certain beneficiary developing countries to determine whether such countries are in compliance with the ATPA eligibility criteria. This notice publishes a list of the September 2004 petitions that were filed in response to the announcement of the annual review. In addition, this notice specifies the status of those petitions filed in 2003 that have remained under review.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Pub. L. 107-210), provides trade benefits for eligible Andean countries. Pursuant to section 3103(d) of the ATPDEA, USTR promulgated regulations (15 CFR part 2016) (68 FR 43922) regarding the review of eligibility of countries for the benefits of the ATPA, as amended.

In a Federal Register notice dated August 14, 2003, USTR initiated the 2003 ATPA Annual Review and announced a deadline of September 15, 2003, for the filing of petitions (68 FR 48657). Several of these petitions requested the review of certain practices in certain beneficiary developing countries regarding compliance with the eligibility criteria set forth in sections 203(c) and (d) and section 204(b)(6)(B) of the ATPA, as amended (19 U.S.C. 3203 (c) and (d); 19 U.S.C. 3203(b)(6)(B)).

In a Federal Register notice dated November 13, 2003, USTR published a list of the responsive petitions filed pursuant to the announcement of the annual review. The Trade Policy Staff Committee (TPSC) has conducted a preliminary review of these petitions. 15 CFR 2016.2(b) provides for announcement of the results of the preliminary review on or about December 1. 15 CFR 2016.2(b) also provides for modification of the schedule if specified by Federal Register notice. In a Federal Register notice dated December 30, 2003, USTR modified the schedule for this review, specifying that the results would be announced on or about March 31, 2004. In a Federal Register notice dated April 5, 2004, USTR modified the schedule for this review. In a Federal Register notice dated July 21, 2004, USTR announced that the Trade Policy Staff Committee had determined that certain of the petitions do not require action and terminated their review. The TPSC also decided to modify the date of the announcement of the results of preliminary review for the remaining 2003 petitions to coincide with the 2004 review: Engelhard—Peru; Princeton Dover—Peru; LeTourneau—Peru; Duke Energy—Peru; AFL-CIO—Ecuador; Human Rights Watch—Ecuador; and US/LEAP—Ecuador.

In a Federal Register notice dated August 17, 2004, USTR initiated the 2004 ATPA Annual Review and announced a deadline of September 15, 2004 for the filing of petitions (69 FR 51138). Following is the list of responsive petitions that were filed for the 2004 review:

Ecuador—American Cast Iron Pipe Company

Ecuador—Chevron Texaco

Ecuador—Electrolux Home Products, Inc.

Peru—Parsons Corporation

USTR also received updated information regarding certain matters under consideration from the 2003 ATPA review:

Ecuador—Human Rights Watch

Ecuador—U.S./Labor Education in the Americas Project

Peru—LeTourneau of Peru

USTR will announce the results of the preliminary review of the 2004 petitions and the remaining 2003 petitions on or about December 1, 2004.

Carmen Suro-Bredie,
Chairman, Trade Policy Staff Committee.

[FR Doc. 04-25240 Filed 11-12-04; 8:45 am]

BILLING CODE 3190-W4-P